DEPARTMENT OF THE INTERIOR

Fish and Wildlife Service

Availability of Draft Comprehensive Conservation Plan for Ouray National Wildlife Refuge. Vernal, UT

AGENCY: Fish and Wildlife Service, Interior.

ACTION: Notice of availability.

SUMMARY: Pursuant to the Refuge Improvement Act of 1997, the U.S. Fish and Wildlife Service has published the Ouray National Wildlife Refuge Draft Comprehensive Conservation Plan. This Plan describes how the FWS intends to manage the Ouray NWR for the next 10-15 years.

ADDRESSES: A copy of the Plan may be obtained by writing to U.S. Fish and Wildlife Service, 266 West 100 North, Suite 2, Vernal, UT 84078; or download from http://www.r6.fws.gov/larp/.

FOR FURTHER INFORMATION CONTACT: Allison Banks, U.S. Fish and Wildlife Service, P.O. Box 25486 DFC, Denver, CO 80225, 303/236-8145 extension 626; fax

SUPPLEMENTARY INFORMATION: Ouray NWR is located in northeast Utah. Implementation of the Plan will focus on adaptive resource management of wetland, grassland, and semidesert shrubland habitats. restoration and improved management of riparian bottomlands, recovery of endangered fish species of the Upper Colorado River Ecosystem, and opportunities for compatible wildlife-dependent recreation. Habitat monitoring and evaluation will be emphasized as the Plan is implemented. Opportunities for compatible wildlife-dependent recreation will continue to be provided.

Dated: February 16, 2000.
Terry T. Terell,
Deputy Regional Director, Denver, Colorado.

[FR Doc. 00-4332 Filed 2-23-00; 8:45 am]

BILLING CODE 4310-55-M